DEPARTMENT OF STATE

[Public Notice 11264]

30-Day Notice of Proposed Information Collection: Department of State TechWomen Evaluation Survey

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments up to January 7, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to Natalie Donahue, Chief of Evaluation, Bureau of Educational and Cultural Affairs, who may be reached on at ecaevaluation@state.gov or at (202) 632-6193.

SUPPLEMENTARY INFORMATION: • Title of Information Collection: TechWomen Evaluation Survey.

• OMB Control Number: None.

• Type of Request: New collection.

• Originating Office: Educational and Cultural Affairs (ECA).

• Form Number: No form.

• Respondents: TechWomen program mentors, program staff from ECA and the implementing partner (IP), and small sample of additional stakeholders.

• Estimated Number of Mentor Survey Respondents: 946.

• Estimated Number of Mentor Survey Responses: 709.

• Average Time per Mentor Survey: 30 minutes.

• Total Estimated Mentor Survey Burden Time: 21,270 minutes.

• Estimated Number of Mentor Key Informant Interview (KII) Participants: 40.

• Average Time per Mentor KIIs: 60 minutes.

• Total Estimated Mentor KIIs Burden Time: 2,400 minutes.

• Total Estimated Burden Time: 23,670 minutes.

• Frequency: Once.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The TechWomen program seeks to empower, connect, and support the next generation of women leaders in science, technology, engineering, and mathematics (STEM) by providing opportunities for them to reach their full potential and become role models for women and girls in their communities. Through mentorship and exchange, the TechWomen program is designed to strengthen participants' professional capacity, increase mutual understanding between key networks of professionals, and expand women and girls' interest in STEM careers by exposing them to female role models. During the five-week program, foreign participants engage with female leaders in project-based mentorships at leading companies in the Silicon Valley and Bay Area, participate in professional development workshops and networking events, and travel to Washington, DC for targeted meetings and special events to conclude the program. After their completion of the program, emerging leaders and mentors have the opportunity to reconnect during delegation trips to program countries in Africa, South and Central Asia, and the Middle East, which focus on expanding networks of women in STEM fields, creating and strengthening partnerships, encouraging girls to pursue STEM careers and ensuring the sustainability of mentor-fellow relationships. The authority for this program is the Mutual Educational and Cultural Exchange Act of 1961 (22 U.S.C. 2451 et seq.).

To evaluate the impact of the program, the Bureau of Educational and Cultural Affairs (ECA) intends to conduct an evaluation of the program covering the period of 2011 through 2019. The evaluation will determine the strength and sustainability of professional networks created by the program and the extent to which these networks have been leveraged for collaborations between Alumnae to enact change. In order to do so, ECA contracted Social Impact (SI) in early 2020 to conduct an evaluation of the TechWomen program.

Methodology

The evaluation will use a mixed-methods design including a quantitative survey and key informant interviews (KIIs). Data from these methods will be used to assess the strength of mentor-alumnae networks as a result of the TechWomen project. The evaluation's approach prioritizes ECA utilization of recommendations to maximize the reach and impact of the TechWomen program. The evaluation will include 40 Key Informant Interviews in the Silicon Valley/Bay Area. The sampling will include Professional Mentors, Cultural Mentors, and Impact Coaches. The Evaluation Team (ET) will gather survey data using the network survey platform ONASurveys.com and will use data from the online survey to provide visual representations and analytic data of the TechWomen network structure.

Aleisha Woodward,
Deputy Assistant Secretary for Policy, Bureau of Educational and Cultural Affairs Department of State.

[FR Doc. 2020-26926 Filed 12-7-20; 8:45 am]

BILLING CODE 4710-05-P